Presidential Determination No. 2022-17 of June 6, 2022

Presidential Determination Pursuant to Section 303 of the Defense Production Act of 1950, as Amended, on Electrolyzers, Fuel Cells, and Platinum Group Metals

Memorandum for the Secretary of Energy

Ensuring a robust, resilient, and sustainable domestic industrial base to meet the requirements of the clean energy economy is essential to our national security, a resilient energy sector, and the preservation of domestic critical infrastructure. Therefore, by the authority vested in me as President by the Constitution and the laws of the United States of America, including section 303 of the Defense Production Act of 1950, as amended (the ``Act'') (50 U.S.C. 4533), I hereby determine, pursuant to section 303(a)(5) of the Act, that:

(1) electrolyzers, fuel cells, and platinum group metals are industrial resources, materials, or critical technology items essential to the national defense;

(2) without Presidential action under section 303 of the Act, United States industry cannot reasonably be expected to provide the capability for the needed industrial resource, material, or critical technology item in a timely manner; and

(3) purchases, purchase commitments, or other action pursuant to section 303 of the Act are the most cost effective, expedient, and practical alternative method for meeting the need.

Pursuant to section 303(a)(7)(B) of the Act, I find that action to expand the domestic production capability for electrolyzers, fuel cells, and platinum group metals is necessary to avert an industrial resource or critical technology item shortfall that would severely impair national defense capability. Therefore, I waive the requirements of section 303(a)(1)-(a)(6) of the Act for the purpose of expanding the domestic production capability for electrolyzers, fuel cells, and platinum group metals.

You are authorized and directed to publish this determination in the Federal Register.

THE WHITE HOUSE,

Washington, June 6, 2022

[FR Doc. 2022-12585

Filed 6-8-22; 8:45 am]

Billing code 6450-01-P